DEPARTMENT OF JUSTICE

Notice of Lodging of Proposed Consent Decree Under the Oil Pollution Act of 1990

On May 18, 2015, the Department of Justice lodged a proposed Consent Decree with the United States District Court for the District of Maine in the lawsuit entitled United States of America and State of Maine v. Chevron U.S.A. Inc., Texaco Inc., Chevron Environmental Management Company, Cumberland Farms, Inc., and Gulf Oil Limited Partnership, Civil Action No. 1:16-cv-00256-DBH.

In the Complaint, Plaintiffs allege that the Defendants are liable to the United States and the State of Maine under Section 1002(a) and (b) of the Oil Pollution Act of 1990, 33 U.S.C. 2702 (a) and (b), and to the State of Maine under the Maine Oil Discharge Prevention and Pollution Control Law, 38 M.R.S. § 552, for damages for injury to, destruction of, loss of, or loss of use of, Natural Resources, including the reasonable cost of assessing the damages, resulting from discharges of oil that occurred starting at least as early as the 1970s at the former Chevron and Texaco marine oil terminal facilities located, respectively, at 799 and 809 Main Road North in Hampden, Maine. The Consent Decree requires the Defendants to pay $880,000 to be used by the Plaintiffs for restoration of Natural Resources, and $42,862 to the United States for reimbursement of Natural Resource Damages assessment costs.

The publication of this notice opens a period for public comment on the Consent Decree. Comments should be addressed to the Assistant Attorney General, Environment and Natural Resources Division, and should refer to United States of America and State of Maine v. Chevron U.S.A. Inc., Texaco Inc., Chevron Environmental Management Company, Cumberland Farms, Inc., and Gulf Oil Limited Partnership, D.J. Ref. No. 90-11-3-11302. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611 Washington, D.C. 20044-7611.

During the public comment period, the Consent Decree may be examined and downloaded at this Justice Department Web site: https://www.justice.gov/enrd/consent-decrees. We will provide a paper copy of the Consent Decree upon written request and payment of reproduction costs. Please mail your request and payment to:

Consent Decree Library, U.S. DOJ—ENRD, P.O. Box 7611, Washington, DC 20044-7611.

Please enclose a check or money order for $7.25 (25 cents per page reproduction cost) payable to the United States Treasury.

Jeffrey Sands,
Assistant Chief, Environmental Enforcement Section, Environment & Natural Resources Division.

[FR Doc. 2016-12170 Filed 5-23-16; 8:45 am]

BILLING CODE 4410-15-P